PENSION BENEFIT GUARANTY CORPORATION

Privacy Act of 1974; System of Records

AGENCY: Pension Benefit Guaranty Corporation.

ACTION: Notice of modified system of records.

SUMMARY: Pursuant to the Privacy Act of 1974 the Pension Benefit Guaranty Corporation (PBGC) is proposing changes to one system of records notice (SORN). PBGC is proposing to amend PBGC 21—Reasonable Accommodation Records. The amendment will expand the authorities for maintenance of the system, the purposes of the system, the categories of individuals covered by the system, the record source categories, and the records contained in the system, to include records of requests for accommodation based on sincerely held religious beliefs, practices, or observances.

DATES: The modified system of records described herein will become effective November 16, 2021.

ADDRESSES: You may submit written comments to PBGC by any of the following methods:

• Federal eRulemaking Portal: http://www.regulations.gov. Follow the website instructions for submitting comments.

• Email: reg.comments@pbgc.gov. Refer to SORN in the subject line.

• Mail or Hand Delivery: Regulatory Affairs Division, Office of the General Counsel, Pension Benefit Guaranty Corporation, 1200 K Street NW, Washington, DC 20005.

Commenters are strongly encouraged to submit public comments electronically. PBGC expects to have limited personnel available to process public comments that are submitted on paper through mail. Until further notice, any comments submitted on paper will be considered to the extent practicable.

All submissions must include the agency's name (Pension Benefit Guaranty Corporation, or PBGC) and reference this notice. Comments received will be posted without change to PBGC's website, http://www.pbgc.gov, including any personal information provided. Do not submit comments that include any personally identifiable information or confidential business information. Copies of comments may also be obtained by writing to Disclosure Division, Office of the General Counsel, Pension Benefit Guaranty Corporation, 1200 K Street NW, Washington, DC 20005, or calling 202-326-4040 during normal business hours. (TTY users may call the Federal relay service toll-free at 1-800-877-8339 and ask to be connected to 202-326-4040.)

FOR FURTHER INFORMATION CONTACT: Shawn Hartley, Chief Privacy Officer, Pension Benefit Guaranty Corporation, Office of the General Counsel, 1200 K Street NW, Washington, DC 20005, 202-229-6321. For access to any of the PBGC's systems of records, contact D. Camilla Perry, Disclosure Officer, Office of the General Counsel, Disclosure Division, 1200 K Street NW, Washington DC 20005, or by calling 202-229-4040, or go to https://www.pbgc.gov/about/policies/pg/privacy-at-pbgc/system-of-records-notices.

SUPPLEMENTARY INFORMATION: PBGC is proposing to amend the authorities for maintenance of the system, purposes of the system, the categories of records contained in the system, the categories of individuals covered by the system, the record source categories, a citation in the Routine Uses section, a citation in the Record Access Procedures section, and a citation in the Contesting Records Procedures section of PBGC 21—Reasonable Accommodation Records.

PBGC is updating the Authority for Maintenance of the System by adding citations to “42 U.S.C. 2000e et seq., 42 U.S.C. 2000bb et seq.” and adding Chapter 21 from Title 42 of the United States Code and Parts 1605 and 1614 from Title 29 of the Code of Federal Regulations. PBGC is expanding the one of the purposes of the system to allow PBGC to maintain records on individuals who requested or received reasonable accommodation by PBGC because of religious beliefs. PBGC is expanding the Categories of Records Contained in the System to include information concerning the individual's religious belief. PBGC is expanding the Categories of Individuals Covered by the System by adding the words “or religious belief, practice or observance” to include accommodation requests based on sincerely held religious beliefs and adding “equal employment opportunity professionals” to Record Source Categories. PBGC is also adding the citation to 29 CFR 4902.5 to the Contesting Records Procedures section and a Federal Register citation to PBGC's Prefatory Statement on Routine Uses to Routine Use 1. Additionally, upon review, it was noticed that the Routine Uses and the Record Access Procedures sections contained typographical errors. PBGC is amending the Privacy Act citation, changing it from 5 U.S.C. 522a(b) to 5 U.S.C. 552a(b) and fixing an erroneous reference from “CRF” to “CFR.”

A report has been sent to Congress and the Office of Management and Budget for their evaluation.

For the convenience of the public, PBGC's amended system of records is published in full below with changes italicized.

Issued in Washington, DC.
Gordon Hartogensis,
Director, Pension Benefit Guaranty Corporation.

SYSTEM NAME AND NUMBER:

PBGC—21: Reasonable Accommodation Records

SECURITY CLASSIFICATION:

Unclassified.

SYSTEM LOCATION:

Pension Benefit Guaranty Corporation, 1200 K Street NW, Washington, DC 20005. (Records may be kept at an additional location as backup for continuity of operations.)

SYSTEM MANAGER(S) AND ADDRESS:

Reasonable Accommodations Coordinator, Human Resources Department, PBGC, 1200 K Street NW, Washington, DC 20005.

AUTHORITY FOR MAINTENANCE OF THE SYSTEM:

29 U.S.C. 1302; 44 U.S.C. 3101; 5 U.S.C. 301; 29 U.S.C. 701 et seq.; 29 U.S.C. 791; 42 U.S.C. 12101 et seq.; 42 U.S.C. 2000e et seq.; 42 U.S.C. 2000bb; 42 U.S.C. Ch. 21, 126; 29 CFR Parts 1605, 1614, 1630; Executive Order 13164 (July 26, 2000); and Executive Order 13548 (July 26, 2010).

PURPOSE(S) OF THE SYSTEM:

The purposes of this system are: (1) To allow PBGC to collect and maintain records on prospective, current, and former employees with disabilities or sincerely held religious beliefs, practices, or observances who requested or received reasonable accommodation by PBGC; (2) to track and report the processing of requests for reasonable accommodation PBGC-wide to comply with applicable law and regulations; and (3) to maintain the confidentiality of medical or religious information submitted by or on behalf of applicants or employees requesting reasonable accommodation.

CATEGORIES OF INDIVIDUALS COVERED BY THE SYSTEM:

Prospective, current, and former employees of PBGC who request and/or receive a reasonable accommodation for a disability or religious belief, practice, or observance authorized individuals or representatives (e.g., family members, union representatives, or attorneys) who submit a request for a reasonable accommodation on behalf of a prospective, current, or former employee.

CATEGORIES OF RECORDS IN THE SYSTEM:

Name and employment information of current or prospective employee needing an accommodation; requester's name and contact information (if different than the employee who needs an accommodation); date request was initiated; information concerning the nature of the disability or religious belief, practice, or observance and the need for accommodation, including appropriate medical or other documentation; occupational series; pay grade; essential duties of the position; details of the accommodation request, such as: Type of accommodation requested, how the requested accommodation would assist in job or allow job performance while accommodating the disability or religious belief, practice, or observance, the sources of technical assistance consulted in trying to identify alternative reasonable accommodation, any additional information provided by the requester relating to the processing of the request, whether the request was approved or denied, whether the accommodation was approved for a trial period; and, documentation between the employee and his/her supervisor(s) regarding the accommodation.

RECORD SOURCE CATEGORIES:

Subject individuals; individual making the request (if different than the subject individuals); medical and equal employment opportunity professionals; and the subject individuals' supervisor(s).

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. General Routine Uses G1 through G14 apply to this system of records (see Prefatory Statement of General Routine Uses at 83 FR 6247 (Feb. 13, 2018)).

2. A record from this system may be disclosed to physicians or other medical professionals to provide them with or obtain from them the necessary medical documentation and/or certification for reasonable accommodation.

3. A record from this system may be disclosed to another federal agency or commission with responsibility for labor or employment relations or other issues, including equal employment opportunity and reasonable accommodation issues, when that agency or commission has jurisdiction over reasonable accommodation issues.

4. A record from this system may be disclosed to the Office of Management and Budget (OMB), Department of Labor (DOL), Office of Personnel Management (OPM), Equal Employment Opportunity Commission (EEOC), or Office of Special Counsel (OSC) to obtain advice regarding statutory, regulatory, policy, and other requirements related to reasonable accommodation.

5. A record from this system may be disclosed to appropriate third-parties contracted by the Agency to facilitate mediation or other dispute resolution procedures or programs.

6. A record from this system may be disclosed to the Department of Defense (DOD) for purposes of procuring assistive technologies and services through the Computer/Electronic Accommodation Program in response to a request for reasonable accommodation.

POLICIES AND PRACTICES FOR STORAGE OF RECORDS:

Records are maintained manually in paper and/or electronic form (including computer databases or discs). Records may also be maintained on back-up tapes, or on a PBGC or a contractor- hosted network.

POLICIES AND PRACTICES FOR RETRIEVAL OF RECORDS:

Records are retrieved by any one or more of the following: Employee name or assigned case number.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4 or to amend records pertaining to themselves in accordance with 29 CFR 4902.5, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend, in accordance with 29 CFR 4902.5, their records must submit a written request identifying the information they wish to correct in their file, in addition to following the requirements of the Record Access Procedure above

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

None.

HISTORY:

PBGC—21, Reasonable Accommodation Records (last published at 83 FR 6271 (February 13, 2018)).

[FR Doc. 2021-24905 Filed 11-15-21; 8:45 am]

BILLING CODE 7709-02-P